OFFICE OF NATIONAL DRUG CONTROL POLICY

Leadership Meeting on Maternal, Fetal, and Infant Opioid Exposure and Neonatal Abstinence Syndrome

AGENCY: Office of National Drug Control Policy.

ACTION: Notice.

SUMMARY: An ONDCP Leadership Meeting on Maternal, Fetal and Infant Opioid Exposure and Neonatal Abstinence Syndrome (NAS) will bring together leaders in the field of policy, opioid exposed infants, pain treatment during pregnancy, and addiction treatment during and after pregnancy. The meeting will be held on Thursday, August 30th 2012 at the White House Conference Center at 726 Jackson Place, NW., Washington D.C., starting at 9:00 a.m. and concluding at 5:30 p.m. The overall objectives of the meeting are to review the state of science and policy and discuss the remaining challenges to the field concerning the upswing in maternal prescription drug abuse and dependence and resulting increases in opioid exposed babies with NAS and possibly other consequences. Misuse and abuse of, and dependence upon, prescription opioid drugs adversely affect the health of millions of Americans and their families.

The specific conference objectives are: (1) To share research findings concerning the NAS epidemic and its costs; (2) to begin a national discussion concerning promising and best practices for treating opioid exposed babies; (3) to raise awareness about opioid misuse and dependence during pregnancy and the need for women with drug use disorders to access treatment through family medicine and gynecological practitioners, and specialty treatment providers; (4) to discuss legal and policy issues related to opioid using pregnant women and mothers including barriers to accessing treatment; (5) to promote awareness among regulatory agencies and insurers concerning the risks and benefits of opioids to developing fetuses and the likelihood of neonatal abstinence syndrome resulting from long term opioid use during pregnancy; and (6) to raise awareness about risk prevention opportunities among practitioners and regulators. Members of the public who wish to attend the meeting should telephone ONDCP's Maternal, Fetal, and Infant Opioid Exposure and Neonatal Abstinence Syndrome telephone line at (202) 395-7454 to arrange building access.

To Attend or For Further Information Contact: Cecelia Spitznas, Ph.D. at (202) 395-7454 or email rsvp@ondcp.eop.gov.

Dated: July 16, 2012.
Linda V. Priebe,
Deputy General Counsel.

[FR Doc. 2012-17679 Filed 7-19-12; 8:45 am]

BILLING CODE 3180-W1-P